DEPARTMENT OF HEALTH AND HUMAN SERVICES

Centers for Medicare & Medicaid Services

[Document Identifier: CMS-10325, CMS-10322 and CMS-10330]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved information collection; Title of Information Collection; Disclosure and recordkeeping requirements for Grandfathered Health Plans under the Affordable Care Act; Use: Section 1251 of the Patient Protection and Affordable Care Act, Public Law 111-148 (the Affordable Care Act), provides that certain plans and health insurance coverage in existence as of March 23, 2010, known as grandfathered health plans, are not required to comply with certain statutory provisions in the Act. To maintain its status as a grandfathered health plan, the interim final regulations (29 CFR 2590.715-1251(a)(3)) require the plan to maintain records documenting the terms of the plan in effect on March 23, 2010, and any other documents that are necessary to verify, explain or clarify status as a grandfathered health plan (the “recordkeeping requirement”). In summary, the plan must make such records available for examination upon request by participants, beneficiaries, individual policy subscribers, or a State or Federal agency official. The disclosure requirement will provide participants and beneficiaries with important information about their grandfathered health plans, such as that grandfathered plans are not required to comply with certain consumer protection provisions contained in the Act. It also will provide important contact information for participants to find out which protections apply and which protections do not apply to a grandfathered health plan and what might cause a plan to change from grandfathered to non-grandfathered health plan status. The recordkeeping requirement will allow a participant, beneficiary, or Federal or State official to inspect plan documents to verify that a plan or health insurance coverage is a grandfathered health plan. The disclosure required when a change in carrier occurs will insure that the succeeding health insurance issuer has sufficient information to determine whether the standards set forth in paragraph (g)(1) of the interim final regulations are met. Form Number: CMS-10325 (OCN: 0938-1093), Frequency: Occasionally; Affected Public: State, Local, or Tribal governments; Number of Respondents: 210,000; Number of Responses: 20,613,000; Total Annual Hours: 53,200. (For policy questions regarding this collection, contact Steven Kornblit at 410-786-1847. For all other issues call (410) 786-1326.)

2. Type of Information Collection Request: Reinstatement of a previously approved information collection; Title of Information Collection: Affordable Care Act Enrollment Opportunity Notice Relating to Extension of Dependent Coverage. Use: The enrollment opportunity notice will be used by health plans to notify certain individuals of their right to enroll dependents who have not attained age 26 under their plan. The affected individuals are those whose coverage ended, or who were denied coverage (or were not eligible for coverage) under a group health plan or group health insurance coverage because, under the terms of the plan or coverage, the availability of dependent coverage of children ended before the attainment of age 26. Form Number: CMS-10322 (OCN: 0938-1089); Frequency: Occasionally; Affected Public: Individual or Households/State, Local, or Tribal governments; Number of Respondents: 126,315; Number of Responses: 25,071,000; Total Annual Hours: 259,066. (For policy questions regarding this collection, contact Steven Kornblit at 410-786-1847. For all other issues call (410) 786-1326.)

3. Type of Information Collection Request: Revision of a previously approved information collection; Title of Information Collection: Enrollment Opportunity Notice Relating to Lifetime Limits; Required Notice of Rescission of Coverage; and Disclosure Requirements for Patient Protection under the Affordable Care Act; Use: Under section 2711 of the PHS Act amended by the Affordable Care Act, the enrollment opportunity notice will be used by health plans to notify certain individuals of their right to re-enroll in their plan. The affected individuals are those whose coverage ended due to reaching a lifetime limit on the dollar value of all benefits for any individual. Under section 2712 of the PHS Act as amended by the Affordable Care Act, the rescission notice will be used by health plans to provide advance notice to certain individuals that their coverage may be rescinded. The affected individuals are those who are at risk of rescission on their health insurance coverage. Under section 2719A of the PHS Act as amended by the Affordable Care Act, the patient protection notification will be used by health plans to inform certain individuals of their right to choose a primary care provider or pediatrician and to use obstetrical/gynecological services without prior authorization. Form Number: CMS-10330 (OMB Control No. 0938-1094); Frequency: On Occasion; Affected Public: State, Local, or Tribal Governments; Number of Respondents: 11,720; Number of Responses: 2,090,700; Total Annual Hours: 5,100. (For policy questions regarding this collection, contact Steven Kornblit at 410-786-1847. For all other issues call (410) 786-1326.)

To obtain copies of the supporting statement and any related forms for the proposed paperwork collections referenced above, access CMS' Web site at http://www.cms.gov/PaperworkReductionActof1995/PRAL/list.asp#TopOfPage or e-mail your request, including your address, phone number, OMB number, and CMS document identifier, to Paperwork@cms.hhs.gov, or call the Reports Clearance Office at 410-786-1326.

In commenting on the proposed information collections please reference the document identifier or OMB control number. To be assured consideration, comments and recommendations must be submitted in one of the following ways by July 26, 2011:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

Dated: May 24, 2011.
Martique Jones,
Director, Regulations Development Group, Division B, Office of Strategic Operations and Regulatory Affairs.

[FR Doc. 2011-13257 Filed 5-26-11; 8:45 am]

BILLING CODE 4120-01-P